DEPARTMENT OF DEFENSE

GENERAL SERVICES ADMINISTRATION

NATIONAL AERONAUTICS AND SPACE ADMINISTRATION

[OMB Control No. 9000-0056; Docket 2012-0076; Sequence 53]

Federal Acquisition Regulation; Submission for OMB Review; Report of Shipment

AGENCY: Department of Defense (DOD), General Services Administration (GSA), and National Aeronautics and Space Administration (NASA).

ACTION: Notice of request for public comments regarding an extension with changes to a previously existing OMB clearance.

SUMMARY: Under the provisions of the Paperwork Reduction Act, the Regulatory Secretariat will be submitting to the Office of Management and Budget (OMB) a request to review and approve an extension of a previously approved information collection requirement concerning report of shipment. A notice was published in the Federal Register at 78 FR 11885, on February 20, 2013. One comment was received.

DATES: Submit comments on or before September 12, 2013.

ADDRESSES: Submit comments identified by Information Collection 9000-0056, Report of Shipment by any of the following methods:

• Regulations.gov: http://www.regulations.gov.

Submit comments via the Federal eRulemaking portal by searching the OMB control number. Select the link “Submit a Comment” that corresponds with “Information Collection 9000-0056, Report of Shipment”. Follow the instructions provided at the “Submit a Comment” screen. Please include your name, company name (if any), and “Information Collection 9000-0056, Report of Shipment” on your attached document.

• Fax: 202-501-4067.

• Mail: General Services Administration, Regulatory Secretariat (MVCB), 1800 F Street NW., 2nd Floor, Washington, DC 20405-0001. ATTN: Hada Flowers/IC 9000-0056, Report of Shipment.

Instructions: Please submit comments only and cite Information Collection 9000-0056, Report of Shipment, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

FOR FURTHER INFORMATION CONTACT: Mr. Curtis E. Glover, Sr., Procurement Analyst, Office of Acquisition Policy, by telephone at (202) 501-1448 or curtis.glover@gsa.gov.

SUPPLEMENTARY INFORMATION:

A. Purpose

In accordance with FAR 47.208 and the clause at FAR 52.247-68, Report of Shipment (REPSHIP), military (and, as required, civilian agency) storage and distribution points, depots, and other receiving activities require advance notice of shipments en-route from contractors' plants. Generally, this notification is required only for classified material; sensitive, controlled, and certain other protected material; explosives, and some other hazardous materials; selected shipments requiring movement control; or minimum carload or truckload shipments. It facilitates arrangements for transportation control, labor, space, and use of materials handling equipment at destination. Also, timely receipt of notices by the consignee transportation office precludes the incurring of demurrage and vehicle detention charges. Unless otherwise directed by a contracting officer, a contractor shall send the notice to the consignee transportation office at least twenty-four hours before the arrival of the shipment.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

B. Discussion and Analysis

One respondent submitted public comments on the extension of the previously approved information collection. The analysis of the public comments is summarized as follows:

Comment: The respondent commented that the extension of the information collection would violate the fundamental purpose of the Paperwork Reduction Act because of the burden it puts on the entity submitting the information and the agency collecting the information.

Response: In accordance with the Paperwork Reduction Act (PRA), agencies can request an OMB approval of an existing information collection. The PRA requires that agencies use the Federal Register Notice and comment process, to extend the OMB's approval, at least every three years. This extension, to a previously approved information collection, pertains to FAR 47.208 and the clause at FAR 52.247-68. The purpose of this provision and associated clause is to require contractors to give advance notice to the Government when they are shipping classified material; sensitive, controlled, and certain other protected material; explosives, and some other hazardous materials; selected shipments requiring movement control; or minimum carload or truckload shipments. The notice of shipment is relied upon by the Government to prepare for the receipt of supplies or equipment that requires special handling. Not granting this extension would eliminate the Government's ability to receive the supplies or equipment in a timely or efficient manner.

Comment: The respondent commented that the agency does not accurately estimate the public burden an extension of the information collection requirement would create.

Response: The United States Transportation Command (USTRANSCOM) handles the majority of these types of shipments in the Federal Government. Based on information received from USTRANSCOM, and in consideration of the public comments received, the estimated burden hours were revised upward. The annual respondents are estimated at approximately 33, with the overall number of responses per year right around 10,000. The estimated average number of responses per respondent is 303. These revisions to the information collection result in upward adjustment to the estimated total burden hours from 167 hours to 9,999 hours (see section (C) for detailed analysis).

Comment: The respondent commented the collective burden of compliance with the information collection requirement greatly exceeds the agency's estimate and outweighs any potential utility of the extension.

Response: The Paperwork Reduction Act (PRA) was designed to improve the quality and use of Federal information to strengthen decision making, accountability, and openness in government and society. Central to this process is the solicitation of comments from the public. This process incorporates an enumerated specification of targeted information and provides interested parties a meaningful opportunity for comment on the relevant compliance cost. This process has led to decreases in the overall collective burden of compliance for the information collection requirement in regards to the public. Based on OMB estimates, in FY 2010, the public spent 8.8 billion hours responding to information collections. This was a decrease of one billion hours, or ten percent from the previous fiscal year. In effect, the collective burden of compliance for the public is going down as the Government publishes rules that make the process less complex, more transparent, and reduce the cost of Federal regulations to both the contractor community and Government.

Comment: The respondent commented that the Government's response to the Paperwork Reduction Act waiver for Far Case 2007-006 is instructive on the total burden for respondents.

Response: Serious consideration is given, during the open comment period, to all comments received and adjustments are made to the paperwork burden estimate based on reasonable considerations provide by the public. This is evidenced, as the respondent notes, in FAR Case 2007-006 where an adjustment was made from the total preparation hours from three to sixty. This change was made considering particularly the hours that would be required for review within the company, prior to release to the Government.

The burden is prepared taking into consideration the necessary criteria in OMB guidance for estimating the paperwork burden put on the entity submitting the information. For example, consideration is given to an entity reviewing instructions; using technology to collect, process, and disclose information; adjusting existing practices to comply with requirements; searching data sources; completing and reviewing the response; and transmitting or disclosing information. The estimated burden hours for a collection are based on an average between the hours that a simple disclosure by a very small business might require and the much higher numbers that might be required for a very complex disclosure by a major corporation. Also, the estimated burden hours should only include projected hours for those actions which a company would not undertake in the normal course of business. Careful consideration went into assessing the estimated burden hours for this collection, and it is determined that an upward adjustment is warranted at this time.

C. Annual Reporting Burden

There is no centralized database in the Federal Government that maintains information regarding the use of FAR 47.208 and the clause at FAR 52.247-68. Therefore, subject matter experts were consulted to obtain additional information that helped in estimating the revised public burden.

Information from the Federal Procurement Data System (FPDS) was not used to gather the data for this information collection, given that agencies are not required to report classified information into FPDS (see FAR 4.603(b)). Based on a review of the applicable clause, it was determined that the types of contracts associated with this information collection are: Contracts that result in the shipments of—

(A) Classified material, protected sensitive, and protected controlled material;

(B) Explosives and poisons, class 1, division 1.1, 1.2 and 1.3; class 2, division 2.3 and class 6, division 6.1;

(C) Radioactive materials requiring the use of a III bar label; or

(D) When a truckload/carload shipment of supplies weighing 20,000 pounds or more, or a shipment of less weight that occupies the full visible capacity of a railway car or motor vehicle, is given to any carrier (common, contract, or private) for transportation to a domestic destination (other than a port for export)

Data from Fiscal Year (FY) 2012 was retrieved from the United States Transportation Command`s (USTRANSCOM) Defense Transportation Tracking System (DTTS). The primary mission of DTTS is to provide safety, security, and in-transit visibility of all DOD shipments by updating information from its database to USTRANSCOMs Global Transportation Network. USTRANSCOM preformed a comprehensive review to determine the number of contractor shipments that were tracked in FY 2012. Based on information from USTRANSCOM, it was reported that in FY 2012 approximately 10,000 shipments from 33 unique vendors reported the notice of shipment requirement, as identified in FAR 47.208 and the clause at FAR 52.247-68. The subject matter experts determined that 33 unique vendors was a sufficient baseline for estimating the number of respondents. USTRANSCOM further provided that the number of shipments varied from contractor to contractor, ranging from as few as 11 shipments per contractor at the low end, to over 1900 shipments per contractor at the high end. USTRANSCOM also determined that averaging the number of shipments for FY 2012 (approximately 10,000) by the number of unique vendors (33), was a sufficient baseline, for this estimate, in determining the average number of responses per respondent. Therefore it is estimated that, in accordance FAR 47.208 and the clause at FAR 52.247-68, contractors were required to provide advance notice of shipments en-route to military (and as required, civilian agency) storage and distribution points, depots, and other receiving activities, and those shipments contained classified materials, sensitive, controlled, and/or certain other protected material, explosives, and/or some other hazardous materials, on average 303 times per year. Further, based on information received from USTRANSCOM, the estimated time require to prepare this notification remains at 10 minutes. These revisions represent an increase from the previously approved information collection.

Respondents: 33.

Responses per Respondent: 303.

Annual Responses: 9,999.

Hours per Response: .167.

Total Burden Hours: 1,670.

Obtaining Copies of Proposals: Requesters may obtain a copy of the information collection documents from the General Services Administration, Regulatory Secretariat (MVCB), 1800 F Street NW., 2nd Floor, Washington, DC 20405-0001, telephone (202) 501-4755. Please cite OMB Control No. 9000-0056, Report of Shipment, in all correspondence.

Dated: August 8, 2013.
Karlos Morgan,
Acting Director, Federal Acquisition Policy Division, Office of Governmentwide Acquisition Policy, Office of Acquisition Policy, Office of Governmentwide Policy.

[FR Doc. 2013-19568 Filed 8-12-13; 8:45 am]

BILLING CODE 6820-EP-P